DEPARTMENT OF COMMERCE

National Oceanic and Atmospheric Administration

RIN 0649-XH098

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will convene on Monday, August 12 through Thursday, August 15, 2019. See SUPPLEMENTARY INFORMATION for specific dates and times.

ADDRESSES: The meeting will take place at Hyatt Centric New Orleans, located at 800 Iberville Street, New Orleans, LA 70112; telephone: (504) 586-0800.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, August 12, 2019; 8:30 a.m.-5 p.m.

The committee sessions will begin with the Administrative/Budget Committee reviewing the 2017-18 Audit Report; review and approve the final 2019 Funded Budget; review of 2015-19 Expenditures and Budget Carryover to 2020; and, discuss guidance from National Marine Fisheries Services (NMFS) on the Multi-Year 2020-24 Council Budget Requests and Gulf Council Projection. Sustainable Fisheries Committee will review draft Framework Action to Modify Federal For-Hire Trip Limits; draft Amendment Reef Fish 48/Red Drum 5: Status Determination Criteria and Optimum Yield for Reef Fish and Red Drum and SSC recommendations; discuss Council Research and Monitoring Priorities for 2020-24; review NMFS Southeast Regional Strategic Plan; receive a presentation on Endangered Species Act listing of Bryde's Whale; and, hold a discussion on allocation issues.

The Reef Fish Committee will convene late afternoon to review the Reef Fish and Coastal Migratory Pelagics Landings; a Hot Sheet on African Pompano; and, receive a SSC Summary Report.

Tuesday, August 13, 2019; 8:30 a.m.-5:30 p.m.

The Reef Fish Committee will reconvene to review Draft Amendment 36B: Modifications to Commercial Individual Fishing Quota (IFQ) Programs—Quota Bank Presentation; discussion on taking final action on Framework Action to Modify the Recreational For-Hire Red Snapper Annual Catch Target Buffer and Amendment 51: Establish Gray Snapper Status Determination Criteria, Reference Points, and Modify Annual Catch Limits. The committee will also review a draft Framework Action to Modify Greater Amberjack Recreational Management Measures; receive a presentation on Decision Points for Implementing Full-retention Bottom Longline Reef Fish Fishery: Viability, Monitoring, and Costs; and review Reef Fish Amendment 52: Evaluate Red Snapper Allocations.

Wednesday, August 14, 2019; 8:30 a.m.-5:30 p.m.

The Habitat Protection and Restoration Committee will review the Permitting Process for Siting of Artificial Reefs and Aquaculture Operations in Federal Waters; and the Essential Fish Habitat (EFH) Outline. The Data Collection Committee will receive a presentation on 101 Permitting Process and Updates to the Programs; hold a discussion on the Commercial Fishing Unique Trip Identifiers Commercial Individual Fishing Quota (IFQ) Program; receive a presentation on Net Gains Alliance and update on Southeast For-Hire Reporting (SEFHIER).

Full Council will convene late morning with Call to Order, Announcements, and Introductions. The Council will hold an Induction for newly appointed Council Members; Adoption of Agenda, and Approval of Minutes. The Council will review Exempted Fishing Permit (EFP) Applications and application public comments (if any); and, receive a presentation on Louisiana Law Enforcement Efforts and Illegal, Unreported and Unregulated (IUU) Fishing Report to Congress.

After lunch, the Council will hold public comment testimony beginning at 2 p.m. until 5:30 p.m. for the following: Final Action: Draft Framework Action to Modify the Recreational For-Hire Red Snapper Annual Catch Target Buffer; and Final Action: Amendment 51 to Establish Gray Snapper Status Determination Criteria, Reference Points, and Modify Annual Catch Limits (ACL); and, open testimony on any other fishery issues or concerns. Anyone wishing to speak during public comment testimony should sign in at the registration station located at the entrance of the meeting room.

Thursday, August 15, 2019; 8:30 a.m.-3:10 p.m.

The Council will receive reports from the following management committees: Habitat Protection and Restoration, Administrative/Budget, Sustainable Fisheries, Data Collection and Reef Fish. The Council will vote on Exempted Fishing Permit (EFP) applications, if any; and receive updates from the following supporting agencies: South Atlantic Fishery Management Council; NOAA Office of Law Enforcement (OLE), Gulf States Marine Fisheries Commission; U.S. Coast Guard; U.S. Fish and Wildlife Service; Department of State; and, discuss any Other Business items.

The Council will hold an election for Chair and Vice-Chair seats for 2019/20.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during this meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: July 12, 2019.
Tracey L. Thompson,
Acting Deputy Director, Office of Sustainable Fisheries, National Marine Fisheries Service.

[FR Doc. 2019-15175 Filed 7-16-19; 8:45 am]

BILLING CODE 3510-22-P